DEPARTMENT OF EDUCATION

[Docket No.: ED-2019-ICCD-0013]

Agency Information Collection Activities; Comment Request; 2019-20 National Teacher and Principal Survey (NTPS 2019-20)

AGENCY: Institute of Education Sciences (IES), Department of Education (ED).

ACTION: Notice of withdrawal.

SUMMARY: The Department of Education is issuing this notice to inform public that Federal Register Notice (Docket ID Number ED-2019-ICCD-0003; FR DOC# 2019-00503), published on January 31, 2019, and entitled “2019-20 National Teacher and Principal Survey (NTPS 2019-20)” has been withdrawn.

DATES: The intended withdrawn date is January 31, 2019.

Changes are being made to this survey, which will be posted for public comment in February 2019. Therefore, the notice should be withdrawn.

The Acting Director, Information Collection Clearance Program, Information Management Branch, Office of the Chief Information Officer, hereby issues a withdrawal notice as required by the Paperwork Reduction Act of 1995.

Dated: February 1, 2019.
Kate Mullan,
Acting Director, Information Collection Clearance Program, Information Management Branch, Office of the Chief Information Officer.

[FR Doc. 2019-01202 Filed 2-5-19; 8:45 am]

BILLING CODE 4000-01-P